DEPARTMENT OF THE TREASURY

Agency Information Collection Activities; Proposed Collection; Comment Request; Multiple Departmental Office Information Requests

AGENCY: Departmental Offices, U.S. Department of the Treasury.

ACTION: Notice.

SUMMARY: The U.S. Department of the Treasury, as part of its continuing effort to reduce paperwork and respondent burden, invites the general public and other federal agencies to comment on the information collections listed below, as required by the Paperwork Reduction Act of 1995.

DATES: Written comments must be received on or before September 5, 2017.

ADDRESSES: Send comments regarding the burden estimate, or any other aspect of the information collection, including suggestions for reducing the burden, to Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Title: Troubled Asset Relief Program—Conflicts of Interest.

OMB Control Number: 1505-0209.

Type of Review: Extension without change of a currently approved collection.

Abstract: Authorized under the Emergency Economic Stabilization Act (EESA) of 2008 (Pub. L. 110-343), as amended by the American Recovery and Reinvestment Act (ARRA) of 2009, the Department of the Treasury has implemented aspects of the Troubled Asset Relief Program (TARP) by codifying section 108 of EESA. Title 31 CFR part 31, TARP Conflict of Interest, sets forth the process for reviewing and addressing actual or potential conflicts of interest among any individuals or entities seeking or having a contract or financial agency agreement with the Treasury for services under EESA. The information collection required by this part will be used to evaluate and minimize real and apparent conflicts of interest related to contractual or financial agent agreement services performed under TARP.

Form: None.

Affected Public: Businesses or other for-profits.

Estimated Number of Respondents: 19.

Estimated Annual Response: 41.

Estimated Total Annual Burden Hours: 876.

Title: TARP Capital Purchase Program—Executive Compensation.

OMB Control Number: 1505-0219.

Type of Review: Authorized under the Emergency Economic Stabilization Act of 2008 (EESA), Public Law 110-343, as amended by the American Recovery and Reinvestment Act of 2009 (ARRA), Public Law 111-5, the Department of the Treasury established the Troubled Asset Relief Program (TARP) to purchase, and to make and fund commitments to purchase, troubled assets from any financial institution on such terms and conditions determined by the Secretary. Section 111 of EESA, as amended by ARRA, provides that certain entities receiving financial assistance from Treasury under TARP will be subject to specified executive compensation and corporate governance standards established by the Secretary. These standards were set forth in the interim final rule published on June 15, 2009 (74 FR 28394), as corrected on December 7, 2009 (74 FR 63990) (the Interim Final Rule). The standards implemented in the Interim Final Rule require that TARP recipients submit certain information pertaining to their executive compensation and corporate governance practices.

Form: None.

Affected Public: Businesses or other for-profits.

Estimated Number of Respondents: 41.

Estimated Annual Response: 180.

Estimated Total Annual Burden Hours: 1,530.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: June 28, 2017.
Spencer W. Clark,
Treasury PRA Clearance Officer.

[FR Doc. 2017-14005 Filed 7-3-17; 8:45 am]

BILLING CODE 4810-25-P